DEPARTMENT OF HOUSING AND URBAN DEVELOPMENT

[Docket No. FR-5383-N-05]

Notice of Proposed Information Collection for Public Comment; Energy Conservation for PHA-Owned or Leased Projects—Audits, Utility Allowances

AGENCY: Office of the Assistant Secretary for Public and Indian Housing, HUD.

ACTION: Notice of proposed information collection.

SUMMARY: The proposed information collection requirement described below will be submitted to the Office of Management and Budget (OMB) for review, as required by the Paperwork Reduction Act. The Department is soliciting public comments on the subject proposal.

DATES: Comments Due Date: June 1, 2010.

ADDRESSES: Interested persons are invited to submit comments regarding this proposal. Comments should refer to the proposal by name/or OMB Control number and should be sent to: Leroy McKinney, Jr., Departmental Reports Management Officer, QDAM, Department of Housing and Urban Development, 451 7th Street, SW., Room 4178, Washington, DC 20410-5000; telephone 202-402-8048 (this is not a toll-free number), or e-mail Mr. McKinney at Leroy.McKinneyJr@hud.gov for a copy of the proposed forms, or other available information. Persons with hearing or speech impairments may access this number through TTY by calling the toll-free Federal Information Relay Service at 800-877-8339. (Other than the HUD USER information line and TTY numbers, telephone numbers are not toll-free.)

FOR FURTHER INFORMATION CONTACT: Dacia Rogers, Office of Policy, Programs and Legislative Initiatives, PIH, Department of Housing and Urban Development, 451 7th Street, SW., Room 4116, Washington, DC 20410; telephone 202-402-3374 (this is not a toll-free number).

SUPPLEMENTARY INFORMATION: The Department will submit the proposed information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This notice also lists the following information:

Title of Proposal: Energy Conservation for PHA-owned or Leased Projects—Audits, Utility Allowances.

OMB Control Number: 2577-0062.

Description of the Need for the Information and Proposed Use: In support of national energy conservation goals, Public Housing Agencies (PHAs) establish allowances for PHA-furnished utilities and for resident-purchased utilities. PHAs document, and provide for resident inspection, the basis upon which allowances and schedules surcharges (and revisions thereof) are established. PHAs complete energy audits, benefit/cost analyses for individual vs. master metering. PHAs review tenant utility allowances.

Agency Form Numbers, if Applicable: Form HUD-50078.

Members of Affected Public: State, Local, or Tribal Government; Public Housing Agencies (PHAs).

Estimation of the Total Number of Hours Needed to Prepare the Information Collection Including Number of Respondents, Frequency of Response, and Hours of Response: 4,130 respondents; requiring annually of 4,130 responses; 79,330 total burden hours; average of 19.21 burden hours per respondent.

Status of the Proposed Information Collection: Revision of a currently approved collection.

Authority: Section 3506 of the Paperwork Reduction Act of 1995, 44 U.S.C. Chapter 35, as amended.

Dated: March 22, 2010.
Merrie Nichols-Dixon,
Acting Deputy Assistant Secretary for Policy, Programs, and Legislative Initiatives, PP.

[FR Doc. 2010-7101 Filed 3-30-10; 8:45 am]

BILLING CODE 4210-67-P